DEPARTMENT OF HEALTH AND HUMAN SERVICES

Food and Drug Administration

[Docket No. FDA-2015-N-1196]

List of Bulk Drug Substances That May Be Used by an Outsourcing Facility To Compound Drugs for Use in Animals; Request for Nominations; Correction

AGENCY: Food and Drug Administration, HHS.

ACTION: Notice; correction.

SUMMARY: The Food and Drug Administration is correcting a notice entitled “List of Bulk Drug Substances That May Be Used by an Outsourcing Facility to Compound Drugs for Use in Animals; Request for Nominations” that appeared in the Federal Register of May 19, 2015 (80 FR 28622). The document announced the intention to develop a list of bulk drug substances that may be used by outsourcing facilities registered under the Federal Food, Drug, and Cosmetic Act (the FD&C Act) to compound animal drugs, in accordance with FDA's draft guidance for industry #230, “Compounding Animal Drugs from Bulk Drug Substances.” The document was published with an incorrect docket number. This document corrects that error.

FOR FURTHER INFORMATION CONTACT: Lisa Granger, Office of Policy and Planning, Food and Drug Administration, 10903 New Hampshire Ave., Bldg. 32, rm. 3330, Silver Spring, MD 20993-0002, 301-796-9115.

SUPPLEMENTARY INFORMATION: In the Federal Register of Tuesday, May 19, 2015, in FR Doc. 2015-11983, the following correction is made:

1. On page 28622, in the second column, in the ADDRESSES section of the document, under Instructions, “Docket No. FDA-2013-N-1524” is corrected to read “Docket No. FDA-2015-N-1196”.

Dated: June 18, 2015.
Leslie Kux,
Associate Commissioner for Policy.

[FR Doc. 2015-15558 Filed 6-24-15; 8:45 am]

BILLING CODE 4164-01-P